DEPARTMENT OF DEFENSE

Department of the Navy

Meeting of the Board of Visitors of Marine Corps University

AGENCY: Department of the Navy, DOD.

ACTION: Notice of open meeting.

SUMMARY: The Board of Visitors of the Marine Corps University (BOV MCU) will meet to review, develop, and provide recommendations on all aspects of the academic and administrative policies of the University; examine all aspects of professional military education operations; and provide such oversight and advice as is necessary to facilitate high educational standards and cost effective operations. The Board will be reviewing the fiscal plan for next year, the University's Facilities Master Plan, and discussing plans for November elections. It will also receive an update on Amphibious Warfare School relocation during renovation of Geiger Hall, be briefed on the status of the History Division move to Quantico, VA and the status of the review and update of the Board By-laws. All sessions of the meeting will be open to the public.

DATES: The meeting will be held on Monday, June 11, 2001, from 9 a.m. to 4 p.m. and on Tuesday, June 12, 2001, from 9 a.m. to 4 p.m.

ADDRESSES: The meeting will be held at the Marine Corps University Research Center, 2040 Broadway Street, Room 164, Quantico, Virginia 22134.

FOR FURTHER INFORMATION CONTACT: Garry Smith, Executive Secretary, Marine Corps University Board of Visitors, 2076 South Street, Quantico, Virginia 22134, telephone number (703) 784-4037.

Dated: April 11, 2001.
C.G. Carlson,
Major, U.S. Marine Corps, Alternate Federal Register Liaison Officer.

[FR Doc. 01-9772 Filed 4-19-01; 8:45 am]

BILLING CODE 3810-FF-P